DEPARTMENT OF HEALTH AND HUMAN SERVICES

Centers for Disease Control and Prevention

Notice of Award of a Single-Source Cooperative Agreement To Fund the National AIDS Control Committee (NACC), Cameroon

AGENCY: Centers for Disease Control and Prevention (CDC), Department of Health and Human Services (HHS).

ACTION: Notice.

SUMMARY: The Centers for Disease Control and Prevention (CDC), located within the Department of Health and Human Services (HHS), announces the award of approximately $3,000,000 for Year 1 of funding to the National AIDS Control Committee (NACC), Cameroon. The award will strengthen national policies, build capacity, and define high-level high-impact interventions and key strategies for HIV/TB prevention, treatment and care in Cameroon. Funding amounts for years 2-5 will be set at continuation.

DATES: The period for this award will be September 30, 2022, through September 29, 2027.

FOR FURTHER INFORMATION CONTACT: Lisa Esapa, Center for Global Health, Centers for Disease Control and Prevention, Standard Chartered Bank Building, Hippodrome, Telephone: 800-232-6348, Email: hww5@cdc.gov.

SUPPLEMENTARY INFORMATION: The single-source award will implement HIV prevention, care and treatment in Cameroon through activities, including: Developing and implementing policies and strategies to optimize case finding, HIV treatment and retention, viral load coverage and suppression, and building workforce capacity to improve uptake and quality of these HIV/TB services; and enhancing the implementation of evidence-based prevention interventions for KPs (key populations) /PPs (priority populations) /GP (general populations. Implementation of this award will enhance scale up of services and improve quality of diagnostics, treatment, management, and clinical outcomes for HIV and TB infections in Cameroon. This award will build upon CDC's initial successful partnerships to address these challenges and gaps and complement Global Fund efforts. NACC is in a unique position to conduct this work, as it is the organization mandated by the Government of Cameroon to coordinate HIV/AIDS activities in Cameroon. NACC is essential to building effective national-level coordination in HIV programs, as mandated in the 2000-2005 and 2006-2010 National HIV/AIDS Strategic Plans. The mission of NACC is to coordinate a comprehensive and effective multi-sector and decentralized national response to HIV/AIDS, including coordination and support to the health sector response.

Summary of the Award

Recipient: National AIDS Control Committee (NACC), Cameroon.

Purpose of the Award: The purpose of this award is to strengthen national policies and define high-level high-impact interventions and key strategies for HIV/TB prevention, treatment and care; improve knowledge and prevent high risk behaviors associated with STIs/HIV; monitor and ensure the elimination of user fees for all HIV/TB services; develop national quality improvement policy and setup CQI management system; provide technical capacity to generate quality data; reduce HIV/TB related morbidity and mortality; and provide capacity to coordinate and monitor the national HIV response in Cameroon.

Amount of Award: The approximate year 1 funding amount will be $ 3,000,000 in Federal Fiscal Year (FYY) 2022 funds, subject to the availability of funds. Funding amounts years 2-5 will be set at continuation.

Authority: This program is authorized under Public Law 108-25 (the United States Leadership Against HIV AIDS, Tuberculosis and Malaria Act of 2003).

Period of Performance: September 30, 2022, through September 29, 2027.

Dated: March 2, 2022.
Terrance Perry,
Chief Grants Management Officer, Centers for Disease Control and Prevention.

[FR Doc. 2022-04788 Filed 3-7-22; 8:45 am]

BILLING CODE 4163-18-P